DEPARTMENT OF THE INTERIOR

Bureau of Land Management

[CACA-51625, LLCAD07000, L51010000, ER0000, LVRWB10B3800]

Notice of Availability of the Record of Decision for San Diego Gas and Electric's East County Substation Project, San Diego County, CA

AGENCY: Bureau of Land Management, Interior.

ACTION: Notice of availability.

SUMMARY: The Bureau of Land Management (BLM) announces the availability of the Record of Decision (ROD) for San Diego Gas and Electric's (SDG&E) East County (ECO) Substation Project, located in San Diego County, California. The Secretary of the Interior approved the ROD on August 21, 2012, which constitutes the final decision of the Department.

ADDRESSES: Copies of the ROD have been sent to responsible Federal, State, and local government agencies and other interested stakholders, and are available upon request from the Field Manager, BLM El Centro Field Office, 1661 S. 4th Street, El Centro, California 92243, and the BLM California Desert District Office, 22835 Calle San Juan de Los Lagos, Moreno Valley, California 92553, or via the Internet at the following Web site: http://www.ca.blm.gov/elcentro.

FOR FURTHER INFORMATION CONTACT: R. Brian Paul, Project Manager, telephone 760-337-4400; address BLM California Desert District Office, 22835 Calle San Juan de Los Lagos, Moreno Valley, California 92553-9046; email catulewind@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: SDG&E filed right-of-way (ROW) application CACA-51625 for the ECO Substation Project. The ECO Substation Project will provide an interconnection hub for renewable generation along SDG&E's existing Southwest Powerlink (SWPL) 500-kilovolt (kV) transmission line. The project will consist of a 500/230/138 kV substation; a SWPL Loop-In (a short loop-in of the existing SWPL transmission line to the proposed ECO Susbstation); the rebuilt Boulevard Substation (an existing substation); and a 13.9-mile 138 kV transmission line connecting the new ECO Substation to the rebuilt Boulevard Substation, 0.8 mile of which is on public lands administered by the BLM (the reminder is located on private lands subject to the permitting authority of the California Public Utilties Commission). Through the ROD, the BLM approves the 0.8-mile portion of the 138 kV transmission line on BLM-administered public land, and makes no decision regarding those portions of the ECO Substation Project or other projects analyzed in the Final Environmental Impact Statement/Environmental Impact Report (EIS/EIR) that are not located on BLM-managed lands.

The project site is located approximately 70 miles east of downtown San Diego, south of Interstate 8, east of the town of Jacumba and along Old Highway 80, in San Diego County, California, within Township 18 South, Ranges 8 East, Section(s) 02, 03, 10, and 11.

The BLM preferred alternative would allow the construction, operation, maintenance, and termination of the 0.8-mile underground segment of the project's 138 kV transmission line on BLM-managed lands, which is necessary for the construction of the ECO Substation Project. In addition to the ECO Substation Project, the Final EIS/EIR evaluated a ROW application by Tule Wind, LLC to construct the Tule Wind Project, as well as the Energia Sierra Juarez Project, and Gen-Tie, Campo, Manzanita wind energy projects. Although these project components were analyzed in the same EIS/EIR, only the 0.8-mile underground segment of the ECO Substation Project 138 kV transmission line and portions of the Tule Wind Project would be located on BLM-managed lands. The BLM issued a separate decision on Tule Wind, LLC's ROW application on December 20, 2011.

This agency preferred alternative was evaluated in the Final EIS/EIR. The Notice of Availability of the Final EIS/EIR for the ECO Substation Project was published in the Federal Register on October 14, 2011 (76 FR 381).

Because this decision is approved by the Secretary of the Interior, it is not subject to administrative appeal (43 CFR 4.410(a) (3)).

Authority: 40 CFR 1506.6

Mike Pool,
Acting Director, Bureau of Land Management.

[FR Doc. 2012-21170 Filed 8-27-12; 8:45 am]

BILLING CODE 4310-40-P